DEPARTMENT OF ENERGY

[Docket No. EA-275-A]

Applications to Export Electric Energy; NorthPoint Energy Solutions Inc.

AGENCY: Office of Fossil Energy, DOE.

ACTION: Notice of application.

SUMMARY: NorthPoint Energy Solutions Inc. (NorthPoint) has applied to renew its authority to transmit electric energy from the United States to Canada pursuant to section 202(e) of the Federal Power Act.

DATES: Comments, protests or requests to intervene must be submitted on or before November 18, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a (e)).

On April 8, 2003, the Office of Fossil Energy (FE) of the Department of Energy (DOE) issued Order No. EA-275 authorizing NorthPoint to transmit electric energy from the United States to Canada as a power marketer using existing international electric transmission facilities. That two-year authorization will expire on April 8, 2005.

On September 30, 2004, the FE received an application from NorthPoint to renew its authorization to transmit electric energy from the United States to Canada for a term of five years. NorthPoint, a Canadian corporation based in Saskatchewan, Canada, is a power marketer that does not own or control any electric generation or transmission facilities nor does it have any franchised service territory in the United States. NorthPoint exports electrical energy acquired from United States generating sources to customers in Canada.

In FE Docket No. EA-275-A, NorthPoint proposes to export electric energy to Canada and to arrange for the delivery of those exports over the international transmission facilities owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, Vermont Electric Company, and Vermont Electric Transmission Company.

The construction of each of the international transmission facilities to be utilized by NorthPoint, as more fully described in the applications, has previously been authorized by a Presidential permit issued pursuant to Executive Order 10485, as amended.

Procedural Matters: Any person desiring to become a party to these proceedings or to be heard by filing comments or protests to these applications should file a petition to intervene, comment or protest at the address provided above in accordance with sections 385.211 or 385.214 of the FERC's Rules of Practice and Procedures (18 CFR 385.211, 385.214). Fifteen copies of each petition and protest should be filed with the DOE on or before the dates listed above.

Comments on the NorthPoint applications to export electric energy to Mexico and/or Canada should be clearly marked with Docket EA-275-A. Additional copies are to be filed directly with Debra L. McAllister, Senior Legal Counsel, NorthPoint Energy Solutions Inc., 2025 Victoria Avenue, Regina, Saskatchewan, Canada S4P 0S1 and Stan Berman, Todd Glass, Heller Ehrman White & McAulilffe LLP, 701 Fifth Avenue, Seattle, WA 98104.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on October 13, 2004.
Anthony J. Como,
Deputy Director, Electric Power Regulation, Office of Fossil Energy.

[FR Doc. 04-23354 Filed 10-18-04; 8:45 am]

BILLING CODE 6450-01-P